DEPARTMENT OF THE INTERIOR

Fish and Wildlife Service

[FWS-R8-ES-2014-N234]; [FXES11130800000-156-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before December 29, 2014.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-062125

Applicant: Bureau of Land Management, El Dorado Hills, California

The applicant requests a permit renewal to take (survey, capture, handle, and release) the San Francisco garter snake (Thamnophis sirtalis tetrataenia) in conjunction with survey activities throughout the range of the species in El Dorado, Sacramento, and San Joaquin Counties, California, and to remove/reduce to possession the Calystegia stebbinsii (Stebbins' morning-glory), Ceanothus roderickii (Pine Hill ceanothus), Eriogonum apricum (incl. vars. apricum and prostratum) (Ione buckwheat and Irish Hill buckwheat), Fremontodendron decumbens (F. californicum subsp. d.) (Pine Hill flannelbush), and Galium californicum subsp. sierrae (El Dorado bedstraw) in conjunction with demographic studies and habitat restoration activities on Federal lands throughout the range of each plant species within the jurisdiction of the Sacramento Fish and Wildlife Service Office for the purpose of enhancing the species' survival.

Permit No. TE-43643B

Applicant: Barbara P. Weiser, Northridge, California

The applicant requests a permit to take (harass by survey, capture, handle, and release) the tidewater goby (Eucyclogobius newberryi) in conjunction with research activities in San Luis Obispo, Santa Barbara, Ventura, Los Angeles, Orange, and San Diego Counties, California, for the purpose of enhancing the species' survival.

Permit No. TE-35440B

Applicant: Bureau of Reclamation, Albuquerque, New Mexico

The applicant requests a permit amendment to take (harass by survey, locate, and monitor nests) the southwestern willow flycatcher (Empidonax traillii extimus) in conjunction with surveys and population monitoring activities throughout the range of the species in California and Nevada for the purpose of enhancing the species' survival.

Permit No. TE-54614A

Applicant: California Department of Fish and Wildlife, Rancho Cordova, California

The applicant requests a permit to take (survey, capture, handle, transport, translocate, attach radio transmitters, and release) the Amargosa vole (Microtus californicus scirpensis) in conjunction with population monitoring activities throughout the range of the species in California for the purpose of enhancing the species' survival.

Permit No. TE-14237A

Applicant: Wildlife Science Consulting, Livermore, California

The applicant requests a permit to take (harass by survey, capture, handle, and release) the California tiger salamander (Santa Barbara County Distinct Population Segment (DPS) and Sonoma County DPS) (Ambystoma californiense) in conjunction with surveys and population monitoring throughout the range of the species in California for the purpose of enhancing the species' survival.

Permit No. TE-07064A

Applicant: Wesley K. Savage, Cambridge, Massachusetts

The applicant requests a permit renewal to take (capture, handle, mark, photograph, and release; collect tissue for genetic analysis; and collect voucher specimens) the California tiger salamander (Santa Barbara County DPS and Sonoma County DPS) (Ambystoma californiense) and Santa Cruz long-toed salamander (Ambystoma macrodactylum croceum), and take (capture, photograph, and release; and collect adult specimens) the callippe silverspot butterfly (Speyeria callippe callippe) in conjunction with surveys, research activities, and phylogenetic study for the butterfly throughout the range of the species in California for the purpose of enhancing the species' survival.

Permit No. TE-35000A

Applicant: University of California, Davis, California

The applicant requests an amendment to a permit to take (survey, capture, handle, release, and collect genetic samples) the giant kangaroo rat (Dipodomys ingens) in conjunction with surveys and population monitoring activities throughout the range of the species in California for the purpose of enhancing the species' survival.

Permit No. TE-128462

Applicant: Jonathan S. Feenstra, Altadena, California

The applicant requests a permit renewal to take (harass by survey) the southwestern willow flycatcher (Empidonax traillii extimus) in conjunction with survey activities throughout the range of the species in California for the purpose of enhancing the species' survival.

Permit No. TE-43911B

Applicant: Jared I. Reed, Temecula, California

The applicant requests a permit to take (capture, handle, and release) the San Bernardino Merriam's kangaroo rat (Dipodomys merriami parvus) and Stephens' kangaroo rat (Dipodomys stephensi) in conjunction with survey and population monitoring activities throughout the range of the species in California for the purpose of enhancing the species' survival.

Permit No. TE-745541

Applicant: Stephen J. Montgomery, Flagstaff, Arizona

The applicant requests a permit renewal to take (capture, handle, and release) the Stephens' kangaroo rat (Dipodomys stephensi) and Pacific pocket mouse (Perognathus longimembris pacificus), take (capture, handle, and release) the San Bernardino kangaroo rat (Dipodomys merriami parvus), take (capture, handle, release, and collect tissue and hair) the Amargosa vole (Microtus californicus scirpensis), and take (harass by survey) the Yuma Ridgway's rail (Rallus obsoletus yumanensis) (originally listed as Yuma clapper rail (Rallus longirostris yumanensis)) in conjunction with survey and population monitoring activities throughout the range of the species in California for the purpose of enhancing the species' survival.

Permit No. TE-43937B

Applicant: Robert L. Sloan, San Luis Obispo, California

The applicant requests a permit to take (locate, capture, handle, measure, release, and relocate) the Morro shoulderband snail (Helminthoglypta walkeriana) in conjunction with surveys and habitat monitoring activities throughout the range of the species in California for the purpose of enhancing the species' survival.

Permit No. TE-02496A

Applicant: Kevin K. Ghalambor, Rancho Cordova, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of the species in California for the purpose of enhancing the species' survival.

Permit No. TE-50510A

Applicant: Geoffrey D. Cline, Mariposa, California

The applicant requests an amendment to a permit to take (survey, capture, handle, and release) the giant kangaroo rat (Dipodomys ingens), Fresno kangaroo rat (Dipodomys nitratoides exilis), and Tipton kangaroo rat (Dipodomys nitratoides nitratoides) in conjunction with surveys and population monitoring activities throughout the range of the species in California for the purpose of enhancing the species' survival.

Permit No. TE-114928

Applicant: John A. Howe, Sacramento, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of the species in California for the purpose of enhancing the species' survival.

Permit No. TE-439449

Applicant: Brenton T. Spies, Simi Valley, California

The applicant requests a permit amendment to take (harass by survey, capture, handle, tag, release, use enclosures, collect, transport, hold in captivity, propagate, and exhibit) the tidewater goby (Eucyclogobius newberryi), in conjunction with research activities throughout the range of the species in California for the purpose of enhancing the species' survival.

Permit No. TE-50895B

Applicant: Angeles National Forest, Arcadia, California

The applicant requests a permit to take (harass by survey and monitor nests) the southwestern willow flycatcher (Empidonax traillii extimus), take (monitor nests) the least Bell's vireo (Vireo bellii pusillus), and take (survey, capture, handle, relocate, and release) the unarmored threespine stickleback (Gasterosteus aculeatus williamsoni), arroyo toad (arroyo southwestern) (Anaxyrus californicus), and mountain yellow-legged frog (southern California DPS) (Rana muscosa), in conjunction with surveys, population monitoring, and invasive removal activities throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2014-28099 Filed 11-26-14; 8:45 am]

BILLING CODE 4310-55-P